DEPARTMENT OF ENERGY

Federal Energy Regulatory Commission

[Docket No. MG00-1-002]

Clear Creek Storage Company, L.L.C.; Notice of Filing

September 28, 2000.

Take notice that Clear Creek Storage Company, L.L.C. submitted revised standards of conduct on September 7, 2000 in response to the Commission's June 2, 2000 Order on Standards of Conduct, 91 FERC ¶ 61,240 (2000).

Any person desiring to be heard or to protest said filing should file a motion to intervene or protest in this proceeding with the Federal Energy Regulatory Commission, 888 First Street, N.E., Washington, D.C. 20426, in accordance with Rules 211 oR 214 of the Commission's Rules of Practice and Procedure (18 CFR 385.211 or 385.214). All such motions to intervene or protest should be filed on or before October 13, 2000. Protests will be considered by the Commission in determining the appropriate action to be taken but will not serve to make protestants parties to the proceeding. Any person wishing to become a party must file a motion to intervene. Copies of these filings are on file with Commission and are available for public inspection. This filing may be viewed on the web at http://www.ferc.fed.us/online/rims.htm (call 202-208-2222 for assistance).

David P. Boergers,
Secretary.

[FR Doc. 00-25407 Filed 10-3-00; 8:45 am]

BILLING CODE 6717-01-M